DEPARTMENT OF DEFENSE

Department of the Navy

Notice of Availability of Government-Owned Inventions; Available for Licensing

AGENCY: Department of the Navy; DoD.

ACTION: Notice of availability for licensing.

SUMMARY: The inventions listed below are assigned to the United States Government as represented by the Secretary of the Navy and are available for domestic and foreign licensing by the Department of the Navy.

The following patents are available for licensing://U.S. Patent No. 9,459,079: LIGHTWEIGHT ARMOR WITH SLIDE REGION FOR SLIDABLY REDIRECTING PROJECTILES//U.S. Patent No. 9,499,890: HIGH-STRENGTH, HIGH-TOUGHNESS STEEL ARTICLES FOR BALLISTIC AND CRYOGENIC APPLICATIONS AND METHOD OF MAKING THEREOF//U.S. Patent No. 9,524,358: CORE-MODULAR INTEROPERABILITY ARCHITECTURE FOR MODELING AND SIMULATION//U.S. Patent No. 9,557,414: ULTRA-BROADBAND COHERENT RADAR TRANSPONDER FOR PRECISION TRACKING//U.S. Patent No. 9,588,011: SHIP RESISTANCE PREDICTION USING A TURBULENT SPOT INDUCER IN MODEL TESTING//U.S. Patent No. 9,628,314: DIGITAL I/Q REPROCESSING DEMODULATOR (DIRD)//U.S. Patent No. 9,630,812: LOAD TRANSFER ACCESSORY FOR DIMINISHING UNWANTED MOTION OF CYLINDRICAL CARGO DURING LOADING OPERATIONS//U.S. Patent No. 9,651,374: METHOD AND SYSTEM FOR MEASURING PHYSICAL PHENOMENA IN AN OPEN WATER ENVIRONMENT//U.S. Patent No. 9,666,864: VERTICALLY ORIENTED GRAPHENE-SUPPORTED ANODE//U.S. Patent No. 9,667,349: DYNAMIC RANGE EXTENSION OF HETERODYNE FIBER-OPTIC INTERFEROMETERS VIA INSTANTANEOUS CARRIER MEASUREMENT//

ADDRESSES: Requests for copies of the patents cited should be directed to Office of Counsel, Naval Surface Warfare Center Carderock Division, 9500 MacArthur Blvd., West Bethesda, MD 20817-5700.

FOR FURTHER INFORMATION CONTACT: Dr. Joseph Teter, Director, Technology Transfer Office, Naval Surface Warfare Center Carderock Division, Code 00T, 9500 MacArthur Blvd., West Bethesda, MD 20817-5700, telephone 301-227-4299.

Authority: 35 U.S.C. 207, 37 CFR part 404.

Dated: December 7, 2017.
E.K. Baldini,
Lieutenant Commander, Judge Advocate General's Corps, U.S. Navy, Federal Register Liaison Officer.

[FR Doc. 2017-26839 Filed 12-12-17; 8:45 am]

BILLING CODE 3810-FF-P